DEPARTMENT OF COMMERCE

International Trade Administation

[A-570-073]

Common Alloy Aluminum Sheet From the People's Republic of China: Final Results of Antidumping Duty Administrative Review; 2020-2021; Correction

AGENCY: Enforcement and Compliance, International Trade Administration, Department of Commerce.

ACTION: Notice; correction.

SUMMARY: On September 8, 2022, the U.S. Department of Commerce (Commerce) published the Federal Register notice of the final results of the administrative review of the antidumping duty order on common alloy aluminum sheet from the People's Republic of China (China) covering the period February 1, 2020, through January 31, 2021. That notice incorrectly identified the name of one company in the final results of the review rate table.

FOR FURTHER INFORMATION CONTACT: Frank Schmitt, AD/CVD Operations, Office VI, Enforcement and Compliance, International Trade Administration, U.S. Department of Commerce, 1401 Constitution Avenue NW, Washington, DC 20230; telephone: (202) 482-4880.

SUPPLEMENTARY INFORMATION:

Correction

In the Federal Register of September 8, 2022, FR Doc. 2022-19342, on page 54976, in the weighted-average dumping margin table, make the following correction:

• In the first row of the “Exporter” column, revise the first-listed company name, “Jiangsu Alcha Aluminum Co., Ltd.” to “Jiangsu Alcha Aluminum Group Co., Ltd.”

Background

On September 8, 2022, Commerce published in the Federal Register the final results of the administrative review of the antidumping duty order on common alloy aluminum sheet from China covering the period February 1, 2020, through January 31, 2021.¹

¹ See Common Alloy Aluminum Sheet from the People's Republic of China: Final Results of Antidumping Duty Administrative Review; 2020-2021, 87 FR 54975 (September 8, 2022).

In the weighted-average dumping margin table, Commerce inadvertently misidentified Jiangsu Alcha Aluminum Group Co., Ltd., as Jiangsu Alcha Aluminum Co., Ltd. (omitting the word “Group” between “Aluminum” and “Co.”).

The corrected weighted-average dumping margin table is as follows:

² For the purposes of this review, we have considered the names Jiangsu Alcha Aluminum Group Co., Ltd. and Jiangsu Alcha Aluminium Group Co., Ltd. as equivalent.

Exporter | Weighted- average dumping margin (percent)
Jiangsu Alcha Aluminum Group Co., Ltd.²/Baotou Alcha Aluminum Co., Ltd./Alcha International Holdings Limited | 51.50
Non-Selected Company Under Review Receiving a Separate Rate
Yinbang Clad Material Co., Ltd | 51.50

Notification to Interested Parties

This notice is issued and published in accordance with sections 751(a)(1), 751(a)(2)(B), and 777(i)(1) of the Tariff Act of 1930 as amended, and 19 CFR 351.221(b)(5).

Dated: September 23, 2022.
Lisa W. Wang,
Assistant Secretary for Enforcement and Compliance.

[FR Doc. 2022-21131 Filed 9-28-22; 8:45 am]

BILLING CODE 3510-DS-P